ENVIRONMENTAL PROTECTION AGENCY

[FRL-9192-2; Docket ID No. EPA-HQ-ORD-2010-0701]

Climate Change Vulnerability Assessment: Four Case Studies of Water Utility Practices

AGENCY: Environmental Protection Agency (EPA).

ACTION: Notice of public comment period.

SUMMARY: EPA is announcing a 45-day public comment period for the draft document titled, “Climate Change Vulnerability Assessment: Four Case Studies of Water Utility Practices” (EPA/600/R-10/077a). The document was prepared by the National Center for Environmental Assessment within EPA's Office of Research and Development.

This draft report presents a series of case studies describing the approaches currently being taken by four water utilities to assess their vulnerability to future climate change. The report is intended to illustrate the types of analyses, models, and climate change information being developed and used by selected utilities that are leaders in climate adaptation to understand and respond to climate risk.

The public comment period and the external peer-review workshop, which will be scheduled at a later date and announced in the Federal Register, are separate processes that provide opportunities for all interested parties to comment on the document. EPA intends to forward the public comments that are submitted in accordance with this notice to the external peer-review panel prior to the meeting for their consideration. When finalizing the draft document, EPA intends to consider any public comments that EPA receives in accordance with this notice.

EPA is releasing this draft document solely for the purpose of pre-dissemination peer review under applicable information quality guidelines. This document has not been formally disseminated by EPA. It does not represent and should not be construed to represent any Agency policy or determination.

The draft document and EPA's peer-review charge are available via the Internet on the NCEA home page under the Recent Additions and the Data and Publications menus at http://www.epa.gov/ncea.

DATES: The 45-day public comment period begins August 23, 2010, and ends October 7, 2010. Technical comments should be in writing and must be received by EPA by October 7, 2010.

ADDRESSES: The draft “Climate Change Vulnerability Assessment: Four Case Studies of Water Utility Practices” is available primarily via the Internet on the National Center for Environmental Assessments home page under the Recent Additions and the Data and Publications menus at http://www.epa.gov/ncea. A limited number of paper copies are available from the Information Management Team, NCEA; telephone: 703-347-8561; facsimile: 703-347-8691. If you are requesting a paper copy, please provide your name, your mailing address, and the document title, “Climate Change Vulnerability Assessment: Four Case Studies of Water Utility Practices.” The EPA's National Service Center for Environmental Publications (NSCEP), P.O. Box 42419, Cincinnati, OH 45242; telephone: 1-800-490-9198; facsimile: 301-604-3408; e-mail: nscep@bps-lmit.com. Please provide your name, your mailing address, the title, and the EPA number of the requested publication.

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Thomas Johnson, NCEA; telephone: 703-347-8618; facsimile: 703-347-8694; or e-mail: Johnson.thomas@epa.gov.

SUPPLEMENTARY INFORMATION:

I. Information About the Project/Document

This report presents a series of case studies describing the approaches currently being taken by four water utilities in the United States to assess their vulnerability to climate change. The report is not intended to be a comprehensive listing of assessment approaches or utilities conducting vulnerability assessments. Rather, its purpose is to illustrate a range of issues and current approaches taken by selected utilities that are leaders in climate adaptation to understand and respond to climate risk. The approaches taken by the different utilities to assess their vulnerability to climate change range from sophisticated environmental modeling and scenario analysis to qualitative methods based on reviews of available literature. The case studies illustrate different approaches that reflect specific local needs and conditions, existing vulnerabilities, local partnerships, and available information about climate change. Information from these case studies will be of use to water utilities and other members of the water resources community to inform the development of strategies for understanding and responding to climate change. The issue of climate change is complex and will require ongoing attention and study.

II. How To Submit Technical Comments to the Docket at http://www.regulations.gov

Submit your comments, identified by Docket ID No. EPA-HQ-ORD 2010-0701, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center's Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2010-0701. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http:// www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: August 13, 2010.
David Bussard,
Acting Director, National Center for Environmental Assessment.

[FR Doc. 2010-20838 Filed 8-20-10; 8:45 am]

BILLING CODE 6560-50-P